DEPARTMENT OF TRANSPORTATION

Federal Aviation Administration

Ninety-Sixth Meeting Special Committee 159 Global Positioning System

AGENCY: Federal Aviation Administration (FAA), U.S. Department of Transportation (DOT).

ACTION: NINETY-SIXTH MEETING Special Committee 159 Global Positioning System.

SUMMARY: The FAA is issuing this notice to advise the public of a meeting of NINETY-SIXTH MEETING Special Committee 159 Global Positioning System.

DATES: The meeting will be held October 14-21, 2016, 09:00 a.m.-5:00 p.m. (unless stated otherwise)

ADDRESSES: The meeting will be held at: RTCA Conference Rooms, 1150 18th NW., Suite 910, Washington, DC.

FOR FURTHER INFORMATION CONTACT: Rebecca Morrison at rmorrison@rtca.org or (202) 330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the NINETY-SIXTH MEETING Special Committee 159 Global Positioning System. The agenda will include the following:

Specific Working Group Sessions

Friday October 14, 2016

• Morning Teleconference—10:00 a.m.—Working group 2A, GPS/GLONASS, Webex. Contact Rebecca Morrison for details

Monday October 17, 2016

• All Day-9:00 a.m.-5:00 p.m., Working Group 2, GPS/WAAS, 9th Floor NBAA/Colson Room

Tuesday October 18, 2016

• All Day—9:00 a.m.-5:00 p.m., Working Group 2C, GPS/Inertial, 9th Floor A4A/ARINC Room

• All Day—9:00 a.m.-5:00 p.m., Working Group 4, GPS/Precision Landing, 9th Floor NBAA/Colson

• Half Day—9:00 a.m.-12:00 p.m., Working Group 2, GPS/WAAS, 9th Floor NBAA/Colson Room

• Half Day—1:00 p.m.-5:00 p.m., Working Group 2A, GPS/GLONASS, 4th Floor Small Board Room

Wednesday October 19, 2016

• All Day 9:00 a.m.-5:00 p.m., Working Group 2A, GPS/GLONASS, 4th Floor Small Board Room

• All Day—9:00 a.m.-5:00 p.m., Working Group 2C, GPS/Inertial, 9th Floor ARINC/A4A Room

• All Day—9:00 a.m.-5:00 p.m., Working Group 4, GPS/Precision Landing, 9th Floor NBAA/Colson Room

Thursday October 20, 2016

• Morning—9:00 a.m.-12:00 p.m., Working Group 2C, GPS/Inertial, 9th Floor ARINC/A4A Room

• All Day—9:00 a.m.-5:00 p.m., Working Group 4, GPS/Precision Landing, 9th Floor NBAA/Colson

• Morning—9:00 a.m.-12:00 p.m., Working Group 7, GPS/Antennas, 4th Floor Large Board Room

• Afternoon—1:00 p.m.-5:00 p.m., Working Group 6, GPS/Interference, 4th Floor Large Board Room

Friday October 21, 2016

• PLENARY SESSION—SEE AGENDA BELOW—starting at 9:00 a.m. 9th Floor NBAA

1. Introductory Remarks: DFO, RTCA and Chairman.

2. Approval of Summary of the Ninety-Fifth Meeting held March, 2016, RTCA Paper No. 189-16/SC159-1050.

3. Final Review and Comment (FRAC) activities.

a. DO-229E Update

b. GPS/GLONASS MOPS

4. Review Working Group (WG) Progress and Identify Issues for Resolution.

a. GPS/WAAS (WG-2)

b. GPS/GLONASS (WG-2A)

c. GPS/Inertial (WG-2C)

d. GPS/Precision Landing Guidance (WG-4)

e. GPS/Interference (WG-6)

f. GPS/Antennas (WG-7)

5. Review of EUROCAE Activities.

6. Action Item Review.

a. DME Interference to GNSS signals in the future

b. Draft formal communication to SBAS providers and other standards bodies informing them of SC-159 work products and efforts

7. Assignment/Review of Future Work.

8. Other Business.

9. Date and Place of Next Meeting.

10. Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 12, 2016.
Mohannad Dawoud,
Management & Program Analyst, Partnership Contracts Branch, ANG-A17 NextGen, Procurement Services Division, Federal Aviation Administration.

[FR Doc. 2016-19604 Filed 8-16-16; 8:45 am]

BILLING CODE 4910-13-P